CONSUMER PRODUCT SAFETY COMMISSION

[CPSC Docket No. CPSC-2010-0104

16 CFR Part 1512

RIN 3041-AC95

Requirements for Bicycles

AGENCY: Consumer Product Safety Commission.

ACTION: Final rule.

SUMMARY: The Consumer Product Safety Commission (“CPSC,″ “Commission,″ or “we″) is amending its bicycle regulations. The amendments make minor changes to the existing regulations to reflect new technologies, designs, and features in bicycles by clarifying that certain provisions or testing requirements do not apply to specific bicycles or bicycle parts. The amendments also clarify several ambiguous and confusing provisions. The final rule also corrects typographical errors and removes an outdated reference.

DATES: The rule is effective June 13, 2011.

FOR FURTHER INFORMATION CONTACT: Vincent J. Amodeo, Mechanical Engineer, Directorate for Engineering Sciences, U.S. Consumer Product Safety Commission, 4330 East West Highway, Bethesda, MD 20814; e-mail vamodeo@cpsc.gov; telephone 301-504-7570.

SUPPLEMENTARY INFORMATION:

I. Background

CPSC regulations, at 16 CFR part 1512, establish requirements for bicycles pursuant to the Federal Hazardous Substances Act. The regulations were first promulgated in 1978 (43 FR 60034 (Dec. 22, 1978)), with minor amendments in 1980 (45 FR 82627 (Dec. 16, 1980)), 1981 (46 FR 3204 (Jan. 14, 1981)), 1995 (60 FR 62990 (Dec. 8, 1995)), and 2003 (68 FR 7073 (Feb. 12, 2003)); 68 FR 52691 (Sept. 5, 2003)).

In recent years, there have been technological changes in bicycle design and in the materials used to manufacture bicycles that have caused some bicycle manufacturers to question the applicability of a particular CPSC regulation or to seek changes to the regulations. Additionally, the enactment of the Consumer Product Safety Improvement Act of 2008 (CPSIA), Public Law 110-314, 122 Stat. 3016, has resulted in new testing and certification requirements for children's products. The Commission recognizes that there have been many changes in bicycle technology, material, and design since the bicycle regulations were promulgated. The Commission intends to undertake a comprehensive review of the bicycle regulations at a future point to determine how these regulations might be further amended to address the changes that have taken place.

In the Federal Register of November 1, 2010 (75 FR 67043), we issued a proposed rule that would amend 16 CFR part 1512. The proposed rule would make minor changes to the existing regulations to reflect new technologies, designs and features in bicycles by clarifying that certain provisions or testing requirements do not apply to specific bicycles or bicycle parts. The proposal also would clarify several ambiguous and confusing provisions, correct typographical errors, and delete an outdated reference.

The proposed rule also was intended to facilitate the testing and certification requirements of section 14 of the Consumer Product Safety Act (CPSA), 15 U.S.C. 2063, as amended by section 102 of the CPSIA. Section 14 of the CPSA requires manufacturers and private labelers of a product subject to a CPSC rule, ban, standard, or regulation to certify compliance of the product with such rule, ban, standard, or regulation. Section 14(a)(1) of the CPSA requires that certifications for nonchildren's products be based on a test of each product or upon a reasonable testing program. Section 14(a)(2) of the CPSA requires that certifications for children's products be based on tests conducted by a CPSC-accepted third party conformity assessment body (also commonly referred to as a third party laboratory or simply as a laboratory). Under section 14(a)(3) of the CPSA, the requirement to third-party test children's products applies to products manufactured more than 90 days after the CPSC has established and published notice of the requirements for accreditation of third party conformity assessment bodies to assess conformity with a particular rule. In the Federal Register of September 2, 2009 (74 FR 45428), the CPSC published a notice of the requirements for accreditation of third party conformity assessment bodies to assess conformity with 16 CFR part 1512.

However, in the Federal Register of February 9, 2009 (74 FR 6396), the Commission published a notice announcing that it had stayed, for one year, the testing and certification requirements of section 14 of the CPSA as applied to 16 CFR part 1512, and most other CPSC regulations. The stay was intended to give the CPSC time to address many issues raised by the CPSIA's testing and certification requirements (Id. at 6397). Later, in the Federal Register of December 28, 2009 (74 FR 68588), the Commission published a notice that revised the terms of the stay. The Commission maintained the stay on the testing and certification requirements for the bicycle regulations until May 17, 2010, because there was insufficient laboratory capacity for third party testing of bicycles at that time (Id. at 68590). The Commission invited bicycle manufacturers and laboratories to petition the Commission for additional relief if the extension of the stay proved insufficient.

On April 1, 2010, the Bicycle Products Suppliers Association (BPSA), which describes itself as an association of suppliers of bicycles, parts, accessories, and services who serve specialty bicycle retailers, petitioned the Commission for an additional extension of the stay. (The petition can be found at http://www.regulations.gov by searching for the docket number for this rulemaking.) The BPSA contended that there still was insufficient laboratory capacity to handle testing of children's bicycles. It also asserted that 16 CFR part 1512 is out of date in many respects, stated its understanding that the CPSC may commence rulemaking to revise part 1512 in the near future, and urged the Commission to begin such rulemaking. The BPSA suggested that the Commission maintain the stay on testing and certification of bicycles until such a rulemaking concludes, or for an additional year.

On May 3, 2010, CPSC staff met with representatives of the BPSA to discuss the petition. (A summary of the meeting can be found at http://www.cpsc.gov/library/foia/meetings/mtg10/bpsa102.pdf.) On June 17, 2010, the Commission published a notice in the Federal Register extending the stay on testing and certification requirements for bicycles until August 14, 2010, with two exceptions (75 FR 34360). First, because laboratory capacity, at that time, was still insufficient to assess compliance with the reflector requirements at 16 CFR 1512.16, the Commission extended the stay as it related to bicycle reflectors, until November 14, 2010 (Id.). The Commission allowed the additional three-month period for the development of CPSC-accepted laboratory capacity for bicycle reflector testing. Second, the Commission excluded bicycles with nonquill-type stems from the requirement to certify compliance with the handlebar stem insertion mark requirement at 16 CFR 1512.6(a); bicycles with nonquill-type stems may not be able to comply with the insertion mark requirement.

(A stem is the part of a bicycle that connects the handlebars to the “steerer″ or upper part of the bicycle fork [the part of the bicycle that holds the front wheel and can turn to steer the bicycle]. A quill-type stem is a stem that is inserted into the steerer. Most older bicycles use a quill-type stem, but newer bicycles may use other means to connect the stem to the fork. For example, a “threadless″ stem clamps onto the outside of the steerer [rather than having the stem go inside the steerer], and so we will refer to such other types of stems as “nonquill-type stems.″)

In its letter responding to the BPSA's petition, the Commission communicated its decision to extend the stay until August 14, 2010, with the two exceptions for reflector testing and stems. We stated that we are aware that 16 CFR part 1512 does not adequately address some new technologies, designs, or materials, and we asked that manufacturers who believe that they are unable to certify current designs to 16 CFR part 1512 provide the Commission with specific information regarding which provisions of the current regulations are problematic, which models or classes of bicycles are affected, and an explanation of the issue.

In response, on June 4, 2010, the BPSA sent a chart to the CPSC identifying areas in the bicycle regulations that the BPSA considered problematic for certification. This chart differed slightly from a chart that the BPSA had provided informally to CPSC staff earlier in 2010. We considered both charts in the process of developing the proposed rule. (Both charts can be found at http://www.regulations.gov by searching for the docket number for this rulemaking.)

Consequently, in the Federal Register of November 1, 2010 (75 FR 67043), we published a notice of proposed rulemaking recommending several changes to the bicycle regulations meant to address some of the issues raised by the BPSA, and ease the burden on bicycle manufacturers by exempting specific bicycles or bicycle parts from certain requirements, clarifying ambiguous and confusing provisions, correcting several typographical errors and deleting an outdated provision. The preamble to the proposed rule also acknowledged that bicycle technologies, designs, and features have changed dramatically since 16 CFR part 1512 was originally promulgated, but stated that we cannot conduct a comprehensive review of the bicycle regulations in the timeframe that is necessary for implementing the testing and certification requirements of section 14 of the CPSA (75 FR at 67044). Accordingly, the proposed rule would make only limited amendments to 16 CFR part 1512 to facilitate testing and certification of bicycles in accordance with section 14 of the CPSA. The Commission is staying testing and certification requirements for bicycle reflectors until November 14, 2011 because there currently are no CPSC-recognized laboratories that can test for compliance with the reflector requirements at 16 CFR 1512.16.

II. Comments on the Proposed Rule, the CPSC's Responses, and Description of the Final Rule

A. Introduction

We received 13 comments to the proposed rule. We received comments from individuals, a bicycle manufacturer and retailer, a consumer advocacy organization, and the BPSA. In brief, several commenters supported the rule whereas other commenters either sought a more comprehensive review of the bicycle regulations or opposed the rule because we had not conducted a more comprehensive review of the bicycle regulations. Other commenters sought changes that were specific to certain bicycle parts, such as brakes and clipless pedals. Several commenters addressed topics that were outside the scope of the rulemaking, such as suggesting changes to information on the CPSC's Web site.

We describe and respond to the comments in section II of this document and also describe the final rule. To make it easier to identify the comments and our responses, the word “Comment,″ in parentheses, will appear before the comment's description, and the word “Response,″ in parentheses, will appear before our response. We also have numbered each comment to help distinguish between different comments. The number assigned to each comment is purely for organizational purposes and does not signify the comment's value, or importance, or the order in which it was received.

B. Definitions (§ 1512.2)

1. Sidewalk Bicycles (§ 1512.2(b))

The existing regulation, at § 1512.2(b), defines a “sidewalk bicycle″ as “a bicycle with a seat height of no more than 635 mm (25.0 in); the seat height is measured with the seat adjusted to its highest position.″ The proposed rule would amend the definition of sidewalk bicycle by adding a sentence stating that recumbent bicycles are not considered sidewalk bicycles. Although some recumbent bicycles may have seats below the 635 millimeter height, recumbent bicycles do not share other features, or the intended riders, of sidewalk bicycles. This will have the effect of clarifying which requirements are applicable to recumbent bicycles, which were not available when the standard was first promulgated.

We received no comments on this provision and have finalized it without change.

2. Track Bicycles (§ 1512.2(d))

The existing regulation, at § 1512.2(d), defines a “track bicycle″ as “a bicycle designed and intended for sale as a competitive machine having tubular tires, single crank-to-wheel ratio, and no free-wheeling feature between the rear wheel and the crank.″ Track bicycles are not subject to the requirements of 16 CFR part 1512. The proposed rule would amend the definition of track bicycle to further clarify which bicycles are not subject to the regulations. The proposed rule recommended adding the word “velodrome″ between “competitive″ and “machine,″ to clarify that a track bicycle is one intended for competitive velodrome racing. (A “velodrome″ is an arena that has a banked track for bicycle racing.)

The proposed rule also recommended deleting the term “tubular tires.″ Improvements in clincher tires in recent years permit their use on track bicycles; therefore, a definition restricted to bicycles with tubular tires is no longer accurate and would have the effect of subjecting track bicycles with clincher tires to the regulations. (In very general terms, clincher tires are the type of tires associated with most bicycles and feature an inner tube and an outer tire that makes contact with the rims of a bicycle wheel at each edge [called a “bead″]. Tubular tires, in contrast, do not have edges that contact the rim; instead, tubular tires are attached to the rims using glue or tape.)

(Comment 1)—One commenter suggested that we consider whether track bicycles need or should have a braking system.

(Response 1)—Track bicycles, which are used by professionals in competitive racing, do not have brakes. Thus, in the final rule, we have revised the definition to state that a track bicycle is “a bicycle designed and intended for sale as a competitive velodrome machine having no brake levers or calipers, single crank-to-wheel ratio, and no free-wheeling feature between the rear wheel and the crank.″

3. Recumbent Bicycle (Proposed § 1512.2(g))

Proposed § 1512.2(g) would define a recumbent bicycle as “a bicycle in which the rider sits in a reclined position with the feet extended forward to the pedals.″

We received no comments on this provision and have finalized it without change.

C. Mechanical Requirements (§ 1512.4)

Section 1512.4 establishes various mechanical requirements for bicycles. Section 1512.4(b) prohibits “unfinished sheared metal edges or other sharp parts on bicycles that are, or may be, exposed to hands or legs.″ The proposed rule would add the word, “assembled″ before “bicycles,″ to clarify that the prohibition on sharp edges does not apply to a bicycle still needing assembly when it is delivered to the consumer or retail store. Unassembled bicycles may contain sharp edges that are not present when the product is fully assembled.

The proposed rule also would correct a typographical error in § 1512.4(b). The wording should be, “burrs or spurs,″ rather than, “burrs of spurs,″ so that the sentence reads, “so as to remove any feathering of edges, or any burrs or spurs caused during the shearing process.″

Section 1512.4(i) requires that the ends of all control cables have protective caps or otherwise be treated to prevent unraveling. The proposed rule would add the word “accessible″ between the words “all″ and “control cables,″ to clarify that only accessible control cable ends are subject to the requirement regarding protective caps or prevention of unraveling. In other words, control cable ends housed within the bicycle frame or component would not need to be covered with protective caps or otherwise treated to prevent unraveling.

We received no comments on this provision and have finalized it without change.

D. Requirements for Steering System (§ 1512.6)

Section 1512.6(a) requires that the bicycle handlebar stem have a permanent ring or mark to indicate the minimum insertion depth of the handlebar stem into the fork. It also requires that the insertion mark not affect the structural integrity of the stem, not be less than 2 ½ times the stem diameter from the lowest point of the stem, and that the stem strength be maintained for at least a length of one shaft diameter below the mark.

The proposed rule would revise the opening words of paragraph (a) from “[t]he handlebar stem shall″ to “[q]uill-type handlebar stems shall,″ to clarify that this requirement only applies to bicycles having quill-type stems. Because nonquill-type stems do not get inserted into the stem, there is no need for them to have an insertion depth mark. This aspect of the proposal would codify the CPSC policy, announced in the June 17, 2010, stay notice, that nonquill-type stems would be excluded from the requirement to certify compliance with § 1512.6(a).

Section 1512.6(c) specifies that handlebars must allow comfortable and safe control of the bicycle and that handlebar ends be symmetrically located with respect to the longitudinal axis of the bicycle and “no more than 406 mm (16 in) above the seat surface when the seat is in its lowest position and the handlebar ends are in their highest position.″ The proposed rule would create an exception for recumbent bicycles because the handlebars of recumbent bicycles may exceed this regulatory maximum, depending upon their design configuration.

We received no comments on this provision and have finalized it without change.

E. Requirements for Wheel Hubs (§ 1512.12(b))

Section 1512.12(b) currently states that, with respect to quick-release devices, the quick-release clamp action “shall emboss the frame or fork when locked.″ The proposed rule would create an exception for carbon fiber material. The requirement for a quick-release clamp action to emboss a frame or fork when locked is appropriate when bicycle frames are made using steel or aluminum. Modern technology, however, makes it possible to create bicycle frames using carbon fiber material. Carbon fiber is stronger than aluminum and steel, but embossing (or indenting) a carbon fiber frame or fork can weaken the material. To avoid such an illogical result (i.e., of intentionally weakening a carbon fiber frame or fork), the proposal would create an exception for carbon fiber material.

(Comment 2)—One commenter agreed with the proposal, but asserted that the more accurate way to describe this material (carbon fiber material) is to use the term “fiber reinforced plastics.″

(Response 2)—We agree with the commenter and have revised the final rule accordingly.

F. Requirements for Seat (§ 1512.15)

Section 1512.15 establishes various requirements for bicycle seats. Section 1512.15(a) imposes a limitation on seat height, stating that “[n]o part of the seat, seat supports, or accessories attached to the seat shall be more than 125 mm (5.0 in) above the top of the seat surface at the point where the seat surface is intersected by the seat post axis.″

Section 1512.15(b) requires seat posts to contain a “permanent mark or ring that clearly indicates the minimum insertion depth (maximum seat-height adjustment)″ and that the mark not affect the structural integrity of the seat post. (A seat post is a post on which the bicycle seat or saddle rests; a traditional seat post is inserted into the bicycle frame and can be moved up or down to accommodate the rider's size.) Section 1512.15(b) also requires the mark to be “located no less than two seat-post diameters from the lowest point on the post shaft, and the post strength shall be maintained for at least a length of one shaft diameter below the mark.″

The proposed rule would create an exception for recumbent bicycles from the seat height limitation in § 1512.15(a). Recumbent bicycles are designed for reclined riding, so the seats on recumbent bicycles tend to have substantial seat backs. This exception would enable recumbent bicycles to retain their high seat-back design without being in violation of § 1512.15(a).

The proposed rule also would create an exception for bicycles with integrated seat masts from the requirement that seat posts contain a permanent mark or ring to indicate the minimum insertion depth. Integrated seat masts are part of the bicycle frame itself; thus, they do not get inserted in a seat post, and so no insertion depth mark is possible.

(Comment 3)—One commenter said that bicycles with integrated seat masts should continue to have a marking that allows retailers and consumers to easily determine that the seat and seat post are safely installed.

(Response 3)—We agree that integrated seat masts with a marking would allow retailers and consumers to easily determine that a seat is safely assembled. A mark on the product will reassure the public that the seat is safe. Thus, we have revised the final rule to state that, “(t)he seat post shall contain a permanent mark or ring that clearly indicates the minimum insertion depth (maximum seat-height adjustment); the mark shall not affect the structural integrity of the seat post. This mark shall be located no less than two seat-post diameters from the lowest point on the post shaft, and the post strength shall be maintained for at least a length of one shaft diameter below the mark. This requirement does not apply to bicycles with integrated seat masts, however, a permanent mark or other means to clearly indicate that the seat or seat post is safely installed shall be provided.″

(Comment 4)—One commenter requested that seat posts that are cut to fit be excluded from the marking requirement because there is no way to determine where the mark should be.

(Response 4)—We decline to grant the commenter's request to exclude seat posts that are cut to fit from the requirement. We believe that such an exclusion could result in a decrease in safety and that further work, such as testing and an examination of any existing standards that may be relevant, would be needed to consider the potential impact of such an exclusion. We will, however, consider the issue when we conduct a more thorough evaluation of the bicycle standards.

(Comment 5)—One commenter remarked on the number of accidents that the commenter has witnessed resulting from bicycles seats being raised too high. The commenter would require manufacturers to insert a marking that will indicate a safe seat height level.

(Response 5)—The pre-existing regulations already require such marking. Consequently, no revision to the final rule is necessary with respect to this comment.

G. Tests and Test Procedures (§ 1512.18)

The proposed rule would amend § 1512.18(k)(1)(i), which describes the procedure for conducting the fork test. The test procedure requires, in relevant part, that the load on the fork “be increased until a deflection of 64 mm (2 ½ in) is reached.″ The test criteria, which are specified at § 1512.18(k)(1)(ii), explain that “[e]nergy of at least 39.5 J (350 in-lb) shall be absorbed with a deflection in the direction of the force of no more than 64 mm (2½ in.).″ Thus, the fork test involves applying a load to the fork, and the fork must absorb the required energy while not deflecting more than 64 millimeters, or 2.5 inches.

The proposed rule would delete the last sentence of § 1512.18(k)(1)(i), regarding a deflection of 64 millimeters (2.5 inches), because § 1512.18(k)(1)(i) may be interpreted (incorrectly) as conflicting with § 1512.18(k)(1)(ii). In other words, a reader might construe the regulations as requiring force to be applied until the fork is deflected to 64 millimeters or 2.5 inches.

The proposed rule also would amend the reflector performance test description at § 1512.18(n)(2)(vii). The reflector performance test description discusses a coordinate system used for the reflector performance test and states that “[i]n the coordinate system and when illuminated by the source defined in table 4 of this part 1512, a reflector will be considered to be red if its color falls within the region bounded by the red spectrum locus and the lines y0.980—x and y0.335; a reflector will be considered to be amber if its color falls within the region bounded by the yellow spectrum locus and the lines y0.382, y0.790−0.667x, and y x—0.120.″ The y and x coordinates, as described in the rule, omitted important mathematical symbols or duplicated other mathematical symbols. The proposal would revise § 1512.18(n)(2)(vii) to read “[i]n the coordinate system and when illuminated by the source defined in table 4 of this part 1512, a reflector will be considered to be red if its color falls within the region bounded by the red spectrum locus and the lines y = 0.980−x and y = 0.335; a reflector will be considered to be amber if its color falls within the region bounded by the yellow spectrum locus and the lines y = 0.382, y = 0.790−0.667x, and y = x−0.120.″

Section 1512.18(n)(2)(vii) also refers to the “IES Lighting Handbook, fifth edition, 1972,″ and a footnote to the rule explains that the IES Lighting Handbook may be obtained from the Illuminating Engineering Society (IES) and gives an address for IES. The reference to the IES Lighting Handbook is outdated, as is the address for the IES. More importantly, the recommended coordinate system for definition of color discussed in § 1512.18(n)(2)(vii), the “Internationale de l-Eclairage (CIE) 1931″ system, is readily accessible for little or no cost from various sources in addition to the IES, including the Internet. Because the CIE 1931 color coordinate system is publicly available, the reference to the IES Lighting Handbook is not necessary, and therefore, the proposed rule would delete the reference to the IES Lighting Handbook and its accompanying footnote.

We received no comments on these provisions and have finalized them without change.

H. Additional Changes Requested by the Comments

1. Introduction

Several commenters suggested additional revisions to the bicycle regulations. We discuss those comments, and our responses, in this section.

2. Requirements for Braking Systems: Handbrakes and Grip Dimension (§ 1512.5(b)(3))

(Comment 6)—One commenter asked that we change the requirement for the brake lever grip dimension. Currently, the grip dimension, which is defined as the maximum outside dimension between the brake hand lever and the handlebars, shall not exceed 89 mm (3.5 inches). The commenter would change the maximum to 100 mm (4.0 inches) to accommodate new bicycle designs that include gear shift mechanisms on the lever. The commenter stated that, because of the need to accommodate the added shifting mechanism and allow space for the rider's hands, the brake lever portion of the combination brake/shift lever may be slightly farther away from the handlebar.

(Response 6)—We decline to revise § 1512.5(b)(3) because such an exclusion could result in a decrease in safety and that further work, such as testing and an examination of any existing standards that may be relevant, would be needed to consider the potential impact of the commenter's suggested change. Thus, we will consider the commenter's suggestion when we undertake a more thorough evaluation of the bicycle standards.

3. Requirements for Braking Systems (§ 1512.5) and Tests and Tests Procedures (§ 1512.18)

(Comment 7)—Two commenters would revise the requirements for braking system testing. One commenter stated that he had prepared a written explanation as to why we should revise the braking standard, but the explanation was deleted. Another commenter would revise the braking system test requirements to require: (1) Bicycles to be tested under wet conditions that might result in longer stopping time; (2) a “front brake modulation test″ that would determine if the front brakes of a bicycle have a propensity to grab abruptly which could result in riders being thrown over the handlebars; and (3) a brake fade test to predict the loss of braking power when a rider is descending a hill, and brakes overheat.

(Response 7)—We agree, generally, that braking system testing requirements should be evaluated and revised. However, we decline to address this issue in the final rule. This rulemaking was intended, in part, to facilitate the testing and certification requirements of section 14 of the Consumer Product Safety Act (CPSA). Changing these standards would involve, among other things, an examination of any relevant existing standards and possibly the development of new testing regimes or an analysis of existing testing regimes already in use. It would be more efficient and more appropriate to consider such issues when we undertake a more thorough evaluation of the bicycle standards.

4. Requirements for Pedals (§ 1512.7)

(Comment 8)—Two commenters addressed clipless pedals, which are products that attach directly to the cleat of a cyclist's shoe. One commenter would have us define the term “clipless pedal,″ and both commenters would have us exempt clipless pedals from the requirement that pedals have reflectors. (Clipless pedals do not have the traditional platform or cage to support the foot and are not easily fitted with reflectors.)

(Response 8)—We acknowledge that reflectors cannot be installed on a clipless pedal. However, removing a reflector from a bicycle may result in a decrease in safety. Changing the standard would involve, among other things, an examination of any relevant existing standards and possibly the development of new testing regimes or an analysis of existing testing regimes already in use. It would be more efficient and more appropriate to consider such issues when we undertake a more thorough evaluation of the bicycle standards.

(Comment 9)—One commenter sought an exemption for clipless pedals from the tread requirement, stating that “it is not feasible to place treads on the pedals, as there is very little space.″

(Response 9)—We are aware of these concerns, but decline to address them in the final rule. Changing the standard would involve, among other things, an examination of any relevant existing standards and possibly the development of new testing regimes or an analysis of existing testing regimes already in use. It would be more efficient and more appropriate to consider such issues when we undertake a more thorough evaluation of the bicycle standards.

5. Requirements for Protective Guards (§ 1512.9 (b))

(Comment 10)—One commenter would revise the requirement for derailleur guards at § 1512.9(b). The derailleur guard requirement is designed to prevent the drive chain from interfering with or stopping the rotation of the wheel through improper adjustments or damage. The commenter said that some bicycle models (specifically those that experienced cyclists are likely to use) lack room for a derailleur guard.

(Response 10)—We are aware of this concern, but decline to address it in the final rule. The derailleur guard is intended to protect the rider from an accident should the drive chain interfere with the wheel because of improper adjustments or damage. Changing the standard would involve, among other things, an examination of any relevant existing standards and possibly the development of new testing regimes or an analysis of existing testing regimes already in use. It would be more efficient and more appropriate to consider such issues when we undertake a more thorough evaluation of the bicycle standards.

6. Component Failures due to Material Fatigue (§ 1512.17(a))

(Comment 11)—One commenter asked us to evaluate component failures that are caused by material fatigue, which the commenter defined as the weakening and subsequent fracture of the material due to repeated stress.

(Response 11) We agree that testing component parts that fail because of material fatigue is an important issue that should be evaluated and revised. However, we decline to address this in the final rule. Changing the standard would involve, among other things, an examination of any relevant existing standards and possibly the development of new testing regimes or an analysis of existing testing regimes already in use. Thus, we will consider the matter when we undertake a more thorough evaluation of the bicycle standards.

I. Miscellaneous Comments

Several commenters addressed the proposed rule in general terms or addressed matters that were outside the scope of the proposed rule.

(Comment 12)—Three commenters agreed with the proposed rule in its existing form. One of the commenters, while pleased with the proposed rule at this point, urged us to review and assess the bicycle requirements in greater depth. In contrast, one commentator was opposed to the proposed rule because we did not conduct a more comprehensive review of the bicycle regulations. The commenter said that manufacturers are “forced into a testing regime.″

(Response 12)—Section 14 of the CPSA requires manufacturers and private labelers of a product subject to a CPSC rule, ban, standard, or regulation to certify compliance of the product with such rule, ban, standard, or regulation. As we stated in the preamble to the proposed rule (75 FR at 67043), we issued the proposed rule, in part, to facilitate the testing and certification required by section 14 of the CPSA. We also acknowledged that a more extensive review of the bicycle regulations is necessary (75 FR at 67044), but that we cannot accomplish such a review in the timeframe that is necessary for implementing the testing and certification requirements of section 14 of the CPSA. We will conduct a more extensive review of the bicycle regulations as time and resources permit.

(Comment 13)—One commenter noted that there is a typographical error in a CPSC Regulatory Summary for 16 CFR part 1512. In a description of the requirement for chains and chain guards, the document incorrectly substitutes “90%″ for “90 degrees.″

(Response 13)—CPSC Regulatory Summaries are found on our Web site and are not part of the rule. Nevertheless, we are examining our regulatory summaries and intend to revise or, in some cases, delete them to reflect current requirements and new information.

(Comment 14)—One commenter expressed concern that the proposed rule might create an obligation for bicycle manufacturers to produce new parts.

(Response 14)—Nothing in the proposed rule or the final rule requires a bicycle manufacturer to produce new parts to the meet the requirement.

(Comment 15)—One commenter expressed concern over lead content in children's bicycles.

(Response 15)—If a bicycle is a “children's product″ as defined by section 3(a)(2) of the CPSA, then it is subject to the lead content limit in section 101(a)(2) of the CPSIA. We note, however, that there is a stay of enforcement in place regarding lead content in certain parts of children's bicycles. In the Federal Register of June 30, 2009 (74 FR 31254), the Commission issued a stay of enforcement until June 1, 2011 with regard to the lead content in certain parts of bicycles designed or intended primarily for children 12 years of age or younger. The Commission approved the stay in order to allow time to develop rules and requirements which will address the very specific questions regarding lead content in children's bicycles. In the Federal Register of February 8, 2011 (76 FR 6765), the Commission extended the stay of enforcement until December 31, 2011.

III. Regulatory Flexibility Act

The Regulatory Flexibility Act (RFA), 5 U.S.C. chapter 6, requires the Commission to evaluate the economic impact of rules on small entities. The RFA defines small entities to include small businesses, small organizations, and small governmental jurisdictions. The small entities relevant to this rule are small businesses. It should be noted that we did not receive any comments related to the economic impact of the proposed rule.

We conclude that the final rule will not have a significant economic impact. The amendments make minor changes to the existing regulations to reflect new technologies, designs and features in bicycles by clarifying that certain provisions or testing requirements do not apply to specific bicycles or bicycle parts. The amendments clarify several ambiguous and confusing provisions. The final rule also corrects typographical errors, and deletes an outdated reference.

These changes are not expected to result in product modifications in order to comply and do not require any additional testing or recordkeeping burdens. The clarifications and exceptions resulting from the amendments could result in modest cost savings to small businesses in the form of more focused testing or the elimination of unnecessary testing.

Accordingly, the Commission determines that the final rule will not have a significant economic effect on a substantial number of small entities.

IV. Paperwork Reduction Act

The purposes of the Paperwork Reduction Act of 1995 (PRA), 44 U.S.C. 3501 et seq., include minimizing the paperwork burden on affected entities. The PRA requires certain actions before an agency can adopt or revise the collection of information, including publishing a summary of the collection of information and a brief description of the need for, and proposed use of, the information.

This final rule does not implicate the PRA, because there are no collection of information obligations associated with the proposed amendments to part 1512.

V. Environmental Considerations

The final rule falls within the scope of the Commission's environmental review regulations at 16 CFR 1021.5(c)(1), which provide a categorical exclusion from any requirement for the agency to prepare an environmental assessment or environmental impact statement for amendments of rules or safety standards that provide design or performance requirements for products.

List of Subjects in 16 CFR Part 1512

Bicycles, Consumer protection, Labeling.

For the reasons discussed in the preamble, the Consumer Product Safety Commission amends 16 CFR part 1512 as follows:

PART 1512—REQUIREMENTS FOR BICYCLES

1. The authority citation for part 1512 continues to read as follows:

Authority: Secs. 2(f)(1)(D), (q)(1)(A), (s), 3(e)(1), 74 Stat. 372, 374, 375, as amended, 80 Stat. 1304-05, 83 Stat. 187-89 (15 U.S.C. 1261, 1262); Pub. L. 107-319, 116 Stat. 2776.

2. Amend § 1512.2 by revising paragraphs (b) and (d) and adding paragraph (g) to read as follows:

§ 1512.2 Definitions.

* * * * *

(b) Sidewalk bicycle means a bicycle with a seat height of no more than 635 mm (25.0 in); the seat height is measured with the seat adjusted to its highest position. Recumbent bicycles are not included in this definition.

* * * * *

(d) Track bicycle means a bicycle designed and intended for sale as a competitive velodrome machine having no brake levers or calipers, single crank-to-wheel ratio, and no free-wheeling feature between the rear wheel and the crank.

* * * * *

(g) Recumbent bicycle means a bicycle in which the rider sits in a reclined position with the feet extended forward to the pedals.

3. Amend § 1512.4 by revising paragraphs (b) and (i) to read as follows:

§ 1512.4 Mechanical requirements.

* * * * *

(b) Sharp edges. There shall be no unfinished sheared metal edges or other sharp parts on assembled bicycles that are, or may be, exposed to hands or legs; sheared metal edges that are not rolled shall be finished so as to remove any feathering of edges, or any burrs or spurs caused during the shearing process.

* * * * *

(i) Control cable ends. Ends of all accessible control cables shall be provided with protective caps or otherwise treated to prevent unraveling. Protective caps shall be tested in accordance with the protective cap and end-mounted devices test, § 1512.18(c), and shall withstand a pull of 8.9 N (2.0 lbf).

* * * * *

4. Amend § 1512.6 by revising paragraphs (a) and (c) to read as follows:

§ 1512.6 Requirements for steering system.

(a) Handlebar stem insertion mark. Quill-type handlebar stems shall contain a permanent ring or mark which clearly indicates the minimum insertion depth of the handlebar stem into the fork assembly. The insertion mark shall not affect the structural integrity of the stem and shall not be less than 2½ times the stem diameter from the lowest point of the stem. The stem strength shall be maintained for at least a length of one shaft diameter below the mark.

* * * * *

(c) Handlebar. Handlebars shall allow comfortable and safe control of the bicycle. Handlebar ends shall be symmetrically located with respect to the longitudinal axis of the bicycle and no more than 406 mm (16 in) above the seat surface when the seat is in its lowest position and the handlebar ends are in their highest position. This requirement does not apply to recumbent bicycles.

* * * * *

5. Amend § 1512.12 by revising paragraph (b) to read as follows:

§ 1512.12 Requirements for wheel hubs.

* * * * *

(b) Quick-release devices. Lever-operated, quick-release devices shall be adjustable to allow setting the lever position for tightness. Quick-release levers shall be clearly visible to the rider and shall indicate whether the levers are in a locked or unlocked position. Quick-release clamp action shall emboss the frame or fork when locked, except on fiber reinforced plastics.

* * * * *

6. Amend § 1512.15 by revising paragraphs (a) and (b) to read as follows:

§ 1512.15 Requirements for seat.

(a) Seat limitations. No part of the seat, seat supports, or accessories attached to the seat shall be more than 125 mm (5.0 in) above the top of the seat surface at the point where the seat surface is intersected by the seat post axis. This requirement does not apply to recumbent bicycles.

(b) Seat post. The seat post shall contain a permanent mark or ring that clearly indicates the minimum insertion depth (maximum seat-height adjustment); the mark shall not affect the structural integrity of the seat post. This mark shall be located no less than two seat-post diameters from the lowest point on the post shaft, and the post strength shall be maintained for at least a length of one shaft diameter below the mark. This requirement does not apply to bicycles with integrated seat masts, however, a permanent mark or other means to clearly indicate that the seat or seat posts is safely installed shall be provided.

* * * * *

7. Amend § 1512.18 by revising paragraphs (k)(1)(i) and (n)(2)(vii) as follows:

§ 1512.18 Tests and test procedures.

* * * * *

(k) * * *

(1) * * *

(i) Procedure. With the fork stem supported in a 76 mm (3.0 in) vee block and secured by the method illustrated in figure 1 of this part 1512, a load shall be applied at the axle attachment in a direction perpendicular to the centerline of the stem and against the direction of the rake. Load and deflection readings shall be recorded and plotted at the point of loading.

* * * * *

(n) * * *

(2) * * *

(vii) A recommended coordinate system for definition of color is the “Internationale de l'Eclairage (CIE 1931)″ system. In the coordinate system and when illuminated by the source defined in table 4 of this part 1512, a reflector will be considered to be red if its color falls within the region bounded by the red spectrum locus and the lines y = 0.980−x and y = 0.335; a reflector will be considered to be amber if its color falls within the region bounded by the yellow spectrum locus and the lines y = 0.382, y = 0.790−0.667x, and y = x−0.120.

* * * * *

Dated: May 10, 2011.
Todd A. Stevenson,
Secretary, Consumer Product Safety Commission.

[FR Doc. 2011-11742 Filed 5-12-11; 8:45 am]

BILLING CODE 6355-01-P